FEDERAL COMMUNICATIONS COMMISSION

47 CFR Part 64

[WC Docket No. 13-39, FCC 18-45]

Rural Call Completion

AGENCY: Federal Communications Commission.

ACTION: Final rule; announcement of effective date.

SUMMARY: In this document, the Commission announces that the Office of Management and Budget (OMB) has approved, for a period of three years, the information collection associated with the point of contact requirements for covered providers adopted in the Commission's Rural Call Completion, Second Report and Order (Order). This document is consistent with the Order, which stated that the Commission would publish a document in the Federal Register announcing the effective date of those rules.

DATES: The amendments to 47 CFR 64.2113 published at 83 FR 21723, May 10, 2018, are effective October 24, 2018.

FOR FURTHER INFORMATION CONTACT: Zachary Ross, Competition Policy Division, Wireline Competition Bureau, at (202) 418-1033, or email: zachary.ross@fcc.gov. For additional information concerning the Paperwork Reduction Act information collection requirements contact Nicole Ongele at (202) 418-2991, or email at Nicole.Ongele@fcc.gov.

SUPPLEMENTARY INFORMATION: This document announces that, on October 9, 2018, OMB approved, for a period of three years, the information collection relating to the rural call completion point of contact requirements for covered providers contained in the Commission's Order, FCC 18-45, published at 83 FR 21723, May 10, 2018. The OMB Control Number is 3060-1186. The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Number, 3060-1186, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 9, 2018, for the information collection requirements contained in the modifications to the Commission's rules in 47 CFR part 64.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1186.

The foregoing notice is required by the Paperwork Reduction Act of 1995, Public Law 104-13, October 1, 1995, and 44 U.S.C. 3507.

The total annual reporting burdens and costs for the respondents are as follows:

OMB Control Number: 3060-1186.

OMB Approval Date: October 9, 2018.

OMB Expiration Date: October 31, 2021.

Title: Rural Call Completion, WC Docket No. 13-39.

Form Number: N/A.

Respondents: Business or other for-profit entities.

Number of Respondents and Responses: 56 respondents; 112 responses.

Estimated Time per Response: 1-48 hours.

Frequency of Response: Third-party disclosure and recordkeeping requirements.

Obligation to Respond: Mandatory. Statutory authority for this collection is contained in sections 201, 202, 217, 218, 220(a), 251(a), and 403 of the Communications Act of 1934, as amended, 47 U.S.C. 201, 202, 217, 218, 220(a), 251(a), 403.

Total Annual Burden: 2,744 hours.

Total Annual Cost: $350,000.00.

Nature and Extent of Confidentiality: The Commission is not requesting that the respondents submit confidential information to the FCC. Respondents may, however, request confidential treatment for information they believe to be confidential under 47 CFR 0.459 of the Commission's rules.

Privacy Act Impact Assessment: No impact(s).

Needs and Uses: The Commission has found that rural call completion is a continuing problem imposing needless economic and personal costs on local communities, and that continued Commission focus on the issue is warranted. The information collected through these data collections will be used by the Commission to determine whether long distance providers are complying with their sections 201 and 202 obligations to provide telephone service to both rural and nonrural customers on a just, reasonable, and nondiscriminatory basis. The Commission revised this collection to eliminate the existing reporting requirement and to require covered providers to provide rural call completion contact information, which will be used to facilitate industry collaboration to address call completion issues.

Federal Communications Commission.
Marlene Dortch,
Secretary, Office of the Secretary.

[FR Doc. 2018-23242 Filed 10-23-18; 8:45 am]

BILLING CODE 6712-01-P